SMALL BUSINESS ADMINISTRATION

[License No. 02/02-0685]

Graycliff Mezzanine III (SBIC), L.P.; Notice Seeking Exemption Under the Small Business Investment Act, Conflicts of Interest

Notice is hereby given that Graycliff Mezzanine III (SBIC), L.P., 500 Fifth Avenue, 47th Floor, New York, NY 10110, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Graycliff Mezzanine III (SBIC), L.P. is seeking SBA's prior written exemption to purchase a loan and equity holding in Strategic Delivery Solutions LLC, 1815 Broadhollow Rd., Farmingdale, NY 11735 from an Associate. The financing is brought within the purview of § 107.730(a) and (d) of the Regulations because Graycliff Mezzanine III, LP, an Associate of Graycliff Mezzanine III (SBIC), L.P., owns more than five percent of Strategic Delivery Solutions LLC and this transaction is considered Providing Financing to a Small Business to discharge an obligation to your Associate. Graycliff Mezzanine III (SBIC), L.P. has not invested in Strategic Delivery Solutions LLC to date but is seeking SBA's prior written exemption to provide financing to Strategic Delivery Solutions LLC.

Notice is hereby given that any interested person may submit written comments on this transaction within fifteen days of the date of this publication to the Associate Administrator, Office of Investment and Innovation, U.S. Small Business Administration, 409 Third Street SW, Washington, DC 20416.

November 28, 2018.
A. Joseph Shepard,
Associate Administrator for Office of Investment and Innovation.

[FR Doc. 2018-28312 Filed 12-27-18; 8:45 am]

BILLING CODE 8025-01-P